DEPARTMENT OF ENERGY

Federal Energy Regulatory Commission

[Docket No. CP02-431-000]

Colorado Interstate Gas Company, RME Petroleum Company, and Chevron U.S.A. Inc.; Notice of Joint Petition of Colorado Interstate Gas Company, RME Petroleum Company and Chevron U.S.A. Inc. for a Declaratory Order Disclaiming Jurisdiction

September 13, 2002.

Take notice that on August 27, 2002, Colorado Interstate Gas Company (CIG), RME Petroleum Company (RME) and Chevron U.S.A. Inc. (Chevron) filed, pursuant to Rule 207(a)(2) of the Rules of Practice and Procedure of the Federal Energy Regulatory Commission (Commission) 18 CFR 385.207(a)(2)(2001), a joint petition for a declaratory order in Docket No. CP02-431-000, requesting the Commission declare that the acquisition by RME and Chevron of CIG's Table Rock Plant and their subsequent ownership and operation of these facilities in Sweetwater County, Wyoming, would have the primary function of gathering of natural gas and thereby be exempt from the Commission's jurisdiction pursuant to section 1(b) of the Natural Gas Act, all as more fully set forth in the application which is on file with the Commission and open to public inspection. This filing is available for review at the Commission in the Public Reference Room or may be viewed on the Commission's Web site at http://www.ferc.gov using the “FERRIS” link. Enter the docket number excluding the last three digits in the docket number field to access the document. For Assistance, call (202) 502-8222 or for TTY, (202) 208-1659.

CIG states that it is currently the owner and operator of the Table Rock Plant (a natural gas sweetening plant) and a 1.82 mile, 12-inch diameter pipeline lateral connecting the plant to CIG's 22-inch Wyoming mainline. These facilities were constructed by CIG in 1976 and placed into operation on December 19, 1977 to connect, process, and market supplies of sour gas produced out of the deeper Madison and Weber formations underlying acreage previously committed to CIG in the Table Rock Area of southern Wyoming. CIG states that RME and Chevron own and operate the sour gas wells upstream of the Table Rock Plant.

According to CIG, based upon their natural gas production plans, RME and Chevron believe that expansion of the treating plant will be required in the near future, but the parties have been unable to agree upon any economic arrangement that would permit CIG to expand the plant to the capacity RME and Chevron will be needing. Accordingly, RME and Chevron have determined that it is in their best interest to own and operate the Table Rock Plant and related facilities and CIG has determined that it no longer needs to own and operate this facility. Consequently, CIG states that it has elected to sell the Table Rock Plant and related facilities, and that RME and Chevron have elected to purchase the plant and related facilities.

Specifically, CIG will sell to RME and Chevron all of CIG's rights, title, and interests in the Table Rock Plant and related facilities. Following the sale, CIG has stated that RME and Chevron will operate the wells, gathering facilities and the sour gas plant as an integrated production system, matching well development programs with gathering system and plant modifications to enhance the production of natural gas from the reserves.

It is stated by CIG that as a condition to the closing of the proposed transaction among the parties, CIG will be required to abandon the Table Rock Plant and related facilities under its blanket authorization in Docket No. CP83-21. CIG states that since there are no producers of sour gas upstream of the plant other than RME and Chevron, and since RME and Chevron are not otherwise engaged in the ownership and operation of facilities in interstate commerce subject to Commission jurisdiction, a declaratory order is requested disclaiming jurisdiction over RME's and Chevron's joint ownership and operation of the facilities purchased from CIG.

Any questions regarding this joint petition should be directed to Robert T. Tomlinson, Director, Regulatory Affairs, Colorado Interstate Gas Company, P. O. Box 1087, Colorado Springs, CO 80944, at (719) 520-3788 or fax (719) 520-4697 or Mark R. Haskell or Christie L. Richart, Brunenkant & Haskell, LLP, 805 15th Street, N.W., Suite 1101, Washington, DC 20005, at (202) 408-0700 or fax (202) 408-5959.

There are two ways to become involved in the Commission's review of this project. First, any person wishing to obtain legal status by becoming a party to the proceedings for this project should, on or before October 4, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. The Commission strongly encourages electronic filings. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-23865 Filed 9-19-02; 8:45 am]

BILLING CODE 6717-01-P